NUCLEAR REGULATORY COMMISSION

Enforcement Program and Alternative Dispute Resolution; Workshop and Extension of Comment Period

AGENCY: Nuclear Regulatory Commission.

ACTION: Notice of workshop and extension of comment period.

SUMMARY: The NRC is convening a workshop to more fully explore the potential use of Alternative Dispute Resolution (ADR) in its enforcement program. This workshop is in response to the notice published in the Federal Register on December 14, 2001; 66 FR 64890, that announced NRC's intent to evaluate the use of ADR in its enforcement program. This notice also announces that NRC is extending the comment period for the December 14, 2001, notice to March 29, 2002. The objectives of the workshop will be to develop a better understanding of the range of ADR techniques, how they might apply to specific NRC enforcement scenarios, and the potential advantages and disadvantages of the use of ADR in various parts of the NRC enforcement process. The format of the workshop will be a facilitated discussion among the invited participants of interests that may be affected by the use of ADR in the NRC enforcement process, as well as expert ADR practitioners from other agencies and private practice. The list of invited participants, as well as the agenda for the workshop, will be posted at the NRC Web site (www.nrc.gov) at url http://www.nrc.gov/what-we-do/regulatory/enforcement/public-involvement.html.

Invited participants currently include representatives from the Union of Concerned Scientists, the Nuclear Energy Institute, the Environmental Protection Agency's Conflict Prevention and Resolution Center, ADR experts from other federal agencies and private practice, and participants from the nuclear energy bar and the whistleblower protection bar. Representatives from the NRC Office of Enforcement will also participate in the discussion. The workshop will be open to the public. Although the focus of the discussion will be among the invited participants, the audience will be able to engage in the discussion at selected points during the workshop.

DATES: The workshop will be held on March 12, 2002, from 9 a.m. to 5 p.m. The comment period is extended to March 29, 2002.

ADDRESSES: The workshop will be held at the Kentlands Mansion, 320 Kent Square Road, Gaithersburg, MD 20878. Directions to Kentlands Mansion will be available at the NRC Web site address cited above. In order to optimize the limited space at the facility, it would be helpful if those planning to attend the workshop would notify Mr. Terrence Reis, Senior Enforcement Specialist, Office of Enforcement, U.S. Nuclear Regulatory Commission, by March 4, 2002. Mr. Reis's contact information is contained below in the FOR FURTHER INFORMATION CONTACT section.

In terms of the extended public comment period, submit written responses to the notice published on December 14, 2001, to Mr. Michael Lesar, Chief, Rules and Directives Branch, Division of Administrative Services, Office of Administration, Mail Stop T-6D59, U.S. Nuclear Regulatory Commission, Washington, DC 20555-0001. Hand deliver comments to: 11555 Rockville Pike, Rockville, Maryland, between 7:30 a.m. to 4:15 p.m. on Federal workdays. Copies of comments received may be examined at the NRC Public Document Room, 11555 Rockville Pike, Rockville, MD 20852. Comments also may be sent electronically to Mr. Lesar, e-mail mtl@nrc.gov.

FOR FURTHER INFORMATION CONTACT: Terrence Reis, Senior Enforcement Specialist, Office of Enforcement, U.S. Nuclear Regulatory Commission, Washington, DC 20555-0001 (301) 415-3281, e-mail txr@nrc.gov or Francis X. Cameron, NRC ADR Specialist, Office of the General Counsel, U.S. Nuclear Regulatory Commission, Washington, DC 20555-0001, (301) 415-1642, e-mail fxc@nrc.gov.

SUPPLEMENTARY INFORMATION: “ADR” is a term that refers to a number of voluntary processes, such as mediation and facilitated dialogues, that can be used to assist parties in resolving disputes and potential conflicts. The Administrative Dispute Resolution Act of 1996 (ADRA) encourages the use of ADR by Federal agencies, and defines ADR as “any procedure that is used to resolve issues in controversy, including but not limited to, conciliation, facilitation, mediation, fact finding, mini trials, arbitration, and use of an ombudsman, or any combination thereof.” 5 U.S.C. 571(3). These techniques involve the use of a neutral third party, either from within the agency or from outside the agency, and are typically voluntary processes in terms of the decision to participate, the type of process used, and the content of the final agreement. Federal agency experience with ADR has demonstrated that the use of these techniques can result in the more efficient resolution of issues, more effective outcomes, and improved relationships between the agency and the other party.

The NRC has a general ADR Policy, 57 FR 36678, August 14, 1992 that supports and encourages the use of ADR in NRC activities. In addition, the NRC has used ADR effectively in a variety of circumstances, including rulemaking and policy development, and EEO disputes. There has been no systematic evaluation of the need for ADR in the enforcement process. As part of the NRC's participation in an interagency process in 1998 by the Clinton Administration to encourage a broader use of ADR by Federal agencies, and an inquiry in regard to the use of ADR in a specific enforcement case, have caused the NRC to consider whether a new, specific ADR policy would be beneficial in the enforcement area.

The Commission previously requested public comment on the potential use of ADR in the Commission's enforcement process at 66 FR 64890, on December 14, 2001. In that Notice, the Commission identified a number of issues on which it specifically requested comment:

1. Is there a need to provide for additional avenues, other than that provided for in 10 CFR 2.203, for the use of ADR in NRC enforcement activities?

2. What are the potential benefits of using ADR in the NRC enforcement process?

3. What are the potential detriments of using ADR in the NRC enforcement process?

4. What would be the scope of disputes for which ADR techniques could be utilized?

5. At what points in the existing enforcement process might ADR be used?

6. What types of ADR techniques might most effectively be used in the NRC enforcement process?

7. Does the nature of the existing enforcement process for either reactor or materials licensees limit the effectiveness of ADR?

8. Would any need for confidentiality in the ADR process be perceived negatively by the public?

9. For policy reasons, are there any enforcement areas where it shouldn't be used, e.g., wrongdoing, precedent-setting areas?

10. What factors should be considered in instituting an ADR process for the enforcement area?

11. What should serve as the source of neutrals for use in the ADR process for enforcement?

Several responses have been received on these and other issues in response to the request for public comment. The NRC is now taking two actions:

1. The NRC is extending the public comment period on the original (December 14, 2001) Federal Register Notice to March 29, 2002; and

2. The NRC is convening a workshop to more fully explore the potential use of ADR in its enforcement program. The objectives and format for the workshop are stated in the SUMMARY section of this notice.

Francis X. Cameron, the Commission's Alternative Dispute Resolution Specialist, will be the convener and facilitator for the workshops. Questions about participation may be directed to the facilitator, Francis X. Cameron. Copies of the original Federal Register Notice requesting comment on the potential use of ADR in the NRC enforcement process, the NRC's existing ADR policy statement, the public comments received, the agenda for the workshop, and the roundtable participants, can be obtained at the NRC Web site (www.nrc.gov) at url http://www.nrc.gov/what-we-do/regulatory/enforcement/public-involvement.html

Copies also can be obtained from either of the NRC contacts identified at the beginning of this notice. The workshop commentary will be transcribed and made available to the participants and the public.

Dated at Rockville, Maryland, this 19th day of February, 2002.
For the Nuclear Regulatory Commission.
Frank J. Congel,
Director, Office of Enforcement.

[FR Doc. 02-4380 Filed 2-22-02; 8:45 am]

BILLING CODE 7590-01-M